DEPARTMENT OF THE INTERIOR

National Park Service

[NPS-WASO-NAGPRA-NPS0029205; PPWOCRADN0-PCU00RP14.R50000]

Notice of Inventory Completion: The University of Oregon Museum of Natural and Cultural History, Eugene, OR

AGENCY: National Park Service, Interior.

ACTION: Notice.

SUMMARY: The University of Oregon Museum of Natural and Cultural History has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of Oregon Museum of Natural and Cultural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Oregon Museum of Natural and Cultural History, at the address in this notice by December 27, 2019.

ADDRESSES: Dr. Pamela Endzweig, Director of Collections, University of Oregon Museum of Natural and Cultural History, 1224 University of Oregon, Eugene, OR 97403-1224, telephone (541) 346-5120, email endzweig@uoregon.edu.

SUPPLEMENTARY INFORMATION: Notice is here given in accordance with the Native American Graves Protection and Repatriation Act (NAGPRA), 25 U.S.C. 3003, of the completion of an inventory of human remains and associated funerary objects under the control of the University of Oregon Museum of Natural and Cultural History, Eugene, OR. The human remains and associated funerary objects were removed from Klamath County, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by University of Oregon Museum of Natural and Cultural History professional staff in consultation with representatives of the Alturas Indian Rancheria, California; Klamath Tribes; Pit River Tribe, California (includes XL Ranch, Big Ben, Likely, Lookout, Montgomery Creek and Roaring Creek Rancherias); Round Valley Indian Tribes, Round Valley Reservation, California (previously listed as the Round Valley Indian Tribes of the Round Valley Reservation, California); Susanville Indian Rancheria, California; and The Modoc Tribe of Oklahoma (hereafter referred to as “The Tribes”).

History and Description of the Remains

In 1962, human remains representing, at minimum, three individuals were removed from Big Boulder Village, site 35KL18, Klamath County, OR, during legally authorized excavations conducted by University of Oregon archeologists. The human remains were subsequently transferred to the museum (Acc. #230) and consist of three adults of indeterminate sex (Cat. #11-525). No known individuals were identified. The nine associated funerary objects are three worked flakes, three obsidian fragments, one lot of fiber pieces, one scraper, and one projectile point.

According to written materials on excavations at Big Boulder Village, the historic range places the site in Klamath-Modoc territory, while artifact and feature comparisons suggest either Modoc or Achumawi affiliation. All burials precede house construction and may date to early prehistoric times (5800 B.C. to 2800 B.C.). Historical documents, ethnographic sources, and oral history indicate that the Klamath, Modoc, and Achumawi peoples have occupied this area of south-central Oregon and north-central California. The human remains are determined to be Native American based on archeological context and are reasonably believed to be Modoc or Achumawi. The Modoc, and Achumawi are represented today by the Alturas Indian Rancheria, California; Klamath Tribes; Pit River Tribe, California (includes XL Ranch, Big Ben, Likely, Lookout, Montgomery Creek and Roaring Creek Rancherias); Round Valley Indian Tribes, Round Valley Reservation, California (previously listed as the Round Valley Indian Tribes of the Round Valley Reservation, California); Susanville Indian Rancheria, California; and The Modoc Tribe of Oklahoma.

Determinations Made by the University of Oregon Museum of Natural and Cultural History

Officials of the University of Oregon Museum of Natural and Cultural History have determined that:

• Pursuant to 25 U.S.C. 3001(9), the human remains described in this notice represent the physical remains of three individuals of Native American ancestry.

• Pursuant to 25 U.S.C. 3001(3)(A), the nine objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Pamela Endzweig, Director of Collections, University of Oregon Museum of Natural and Cultural History, 1224 University of Oregon, Eugene, OR 97403-1224, telephone (541) 346-5120, email endzweig@uoregon.edu, by December 27, 2019. After that date, if no additional requestors have come forward, transfer of control of the human remains and associated funerary objects The Tribes may proceed.

The University of Oregon Museum of Natural and Cultural History is responsible for notifying The Tribes that this notice has been published.

Dated: October 25, 2019.
Melanie O'Brien,
Manager, National NAGPRA Program.

[FR Doc. 2019-25727 Filed 11-26-19; 8:45 am]

BILLING CODE 4312-52-P